DEPARTMENT OF ENERGY

Federal Energy Regulatory Commission

[Docket No. EL07-94-000]

Montana Consumer Counsel, Complainant, v. PPL Montana, LLC, PPL Energy Plus, LLC, PPL Colstrip I, LLC, PPL Colstrip II, LLC, Respondent.; Notice of Complaint

September 6, 2007.

Take notice that on September 5, 2007, the Montanan Consumer Counsel (Montana Consumer), filed a complaint against PPL Montana LLC, PPL Energy Plus, LLC, PPL Colstrip I, LLC, and PPL Colstrip II, LLC (collectively, PPL-M), pursuant to Federal Power Act (FPA) section 206. The Complaint states in part:

Because PPL-M has market power and its rates reflect that fact, the Montana Consumer requests that the Commission institute an investigation into the justness and reasonableness of PPL-M's rates and set a refund effective date for those rates. The refund effective date should be the earliest permissible under the FPA section 206(b), 16 U.S.C. 824e(b). Montana Consumer recognizes that the Commission has ruled that PPL-M is entitled to market rate authority. Montana Consumer files this complaint as a protective matter so that if the Court of Appeals reverses the Commission's orders, the consumers of Montana will be protected against unnecessary impediments to the granting of effective relief.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 5, 2007.

Kimberly D. Bose,
Secretary.

[FR Doc. E7-17967 Filed 9-11-07; 8:45 am]

BILLING CODE 6717-01-P